EQUAL EMPLOYMENT OPPORTUNITY COMMISSION

Agency Information Collection Activities: Proposed Collection; Submission for OMB Review

AGENCY: Equal Employment Opportunity Commission.

ACTION: Final Notice of Submission for OMB Review.

SUMMARY: In accordance with the Paperwork Reduction Act of 1995, the Equal Employment Opportunity Commission (EEOC) hereby gives notice that it has submitted to the Office of Management and Budget (OMB) a request to approve a new information collection as described below.

DATES: Written comments on this final notice must be submitted on or before October 31, 2008.

ADDRESSES: The Request for Clearance (SF 83-I), supporting statement, and other documents submitted to OMB for review may be obtained from: Mildred A. Rivera-Rau, General Attorney, Federal Sector Programs, Office of Federal Operations, EEOC, 1801 L Street, NW., Washington, D.C. 20507; (202) 663-4590; (202) 663-7208 (TTD); mildred.rivera@eeoc.gov. Comments on this final notice must be submitted to Chandana Achanta, Office of Information and Regulatory Affairs, OMB, 725 17th Street, NW., Room 10235, New Executive Office Building, Washington, DC 20503 or electronically mailed to Chandana_L._Achanta@omb.eop.gov. Comments should also be sent to Stephen Llewellyn, Executive Officer, Executive Secretariat, EEOC, 10th Floor, 1801 L Street, NW., Washington, D.C. 20507, or by the Federal eRulemaking Portal: http://www.regulations.gov. After accessing this Web site, follow its instructions for submitting comments. As a convenience to commenters, the Executive Secretariat will accept comments totaling six or fewer pages by facsimile (“FAX”) machine. This limitation is necessary to ensure access to the equipment. The telephone number of the FAX receiver is (202) 663-4114. (This is not a toll-free number). Receipt of FAX transmittals will not be acknowledged, except that the sender may request confirmation of receipt by calling the Executive Secretariat staff at (202) 663-4070 or (202) 663-4074 (TTD). (These are not toll-free telephone numbers).

FOR FURTHER INFORMATION CONTACT: Barbara Dougherty, Federal Sector Programs, Office of Federal Operations, EEOC, 1801 L Street, NW., Washington, DC 20507; (202) 663-4770; (202) 663-7208 (TTD). This notice is also available in the following formats: large print, Braille, audio tape and electronic file on computer disk. Requests for this notice in an alternative format should be made to the Publications Center at 1-800-669-3362.

SUPPLEMENTARY INFORMATION: A notice that EEOC would be submitting this request was published in the Federal Register on November 15, 2007, allowing for a 60-day public comment period. Five comments were received. The first comment expressed general opposition to the collection of race-specific data in any form by the federal government due to the lack of evidence that there is widespread discrimination in the federal government. In addition, this commenter believed that collection of the demographic information would harm the federal government by requiring increased representation of underrepresented groups without regard to qualifications, thus leaving the government open to litigation and claims of “reverse” discrimination. The commenter believed that the proposed data collection would create an emphasis to “get numbers up to a level that is perceived to be ‘right’ ” and would place pressure on agencies to focus their recruitment on “women and minorities.” This commenter further questioned the utility of the data because some applicants would refuse to respond. Finally, this commenter found that the proposed Demographic Information on Applicants form did not explain who is considered an applicant or when the form should be administered.

A second commenter did not oppose the collection of demographic data but advised that during a November 27, 2007, Council of Federal EEO and Civil Rights Executives meeting, a manager of the Office of Personnel Management (OPM) opined that federal executives should not collect the demographic information of applicants for federal employment. The commenter requested that EEOC and OPM resolve the matter prior to seeking OMB approval. This commenter also believed that the Demographic Information on Applicants form does not use the nine categories of “targeted” disabilities that EEOC previously established. A third commenter requested that the definition of each demographic category used on Question 4 be eliminated for clarity and ease of form administration. The fourth and fifth commenters strongly supported the collection of demographic data. One such commenter noted that the collection would: “ensure applicants are treated fairly; evaluate federal recruitment efforts; and identify racial, ethnic, or other disparities within the federal workforce.” In addition, the commenters felt that the collection tool was an important step forward, will allow for more refined analysis, and enable the scrutiny of workplace practices including areas for targeted recruitment.

The perception of discrimination among federal employees and applicants is fairly widespread. According to the EEOC's latest Annual Report on the Federal Work Force Fiscal Year 2007, there were 37,809 completed EEO counselings at federal agencies during fiscal year (FY) 2007. Government-wide, federal employees filed 16,363 formal EEO complaints in FY 2007. Also in FY 2007, 7,869 federal hearings were requested, and EEOC's Office of Federal Operations received 5,226 appeals. These numbers show that EEOC's effort to foster the creation of agency model EEO programs through Management Directive 715 (MD-715) is a valuable endeavor. Part of that effort includes the collection of demographic information on applicants for federal employment.

The proposed Demographic Information on Applicants form neither establishes a new requirement to collect applicant flow data nor adds emphasis to the collection of such data. MD-715 has required the analysis of applicant flow data for more than four years; however, analysis was hampered by the lack of a data collection tool. Some agencies, including the Department of Transportation, already have obtained OMB approval for department-specific demographic information collection forms. The use of this proposed general form is intended to alleviate the problem of requiring each agency to seek OMB approval for a data collection tool. Finally, this collection of data does not mandate that agencies make any employment decision based on race or sex, or require a specific number of hires for any EEO group. This data collection is useful to gain an accurate picture of applicant flow in each agency to ensure that each agency is aware of the effects of its recruitment and hiring practices.

The collection of demographic data under MD-715 requires annotation of the number of applicants who were deemed qualified for each position, broken down by EEO group and occupational category. There is no requirement or implication that a particular number or percentage of applicants must be deemed qualified for any position or that unqualified applicants be selected. Each agency determines whether an applicant is qualified based on the requirements of the specific position. Applicants' EEO status is, by law, separated from the employment application prior to submission to the selecting official, thereby precluding consideration of race or national origin in the hiring decision. The use of the Demographic Information on Applicants form does not require an agency to narrow its recruitment to certain targeted EEO groups to the exclusion of other EEO groups. This tool will be used to determine if the agency is reaching a broad range of applicants from diverse groups who are qualified for the positions being posted.

The data submission is voluntary. Applicants are informed of the request and may decline to respond for any reason or no reason. If the group being measured is sufficiently large, even a partial response rate will yield useful data. If the agency does not receive a significant response, it can make note of this in its MD-715 report to EEOC.

Each agency must determine when the applicant flow form is to be distributed and by what means. This will necessarily be tailored to the method by which applications are received in each agency.

Although OPM does not concur with EEOC's view on the advisability of collecting applicant flow data, EEOC is the federal agency charged with the implementation of Title VII of the Civil Rights Act and Section 501 of the Rehabilitation Act. EEOC believes that collection and analysis of applicant flow data is an important component of any EEO program striving to achieve model workplace status. This form simply presents—to those agencies that choose to use it—a streamlined way of collecting that data.

The proposed Demographic Information on Applicants form does use the term “disability” despite the use of the term “handicap” in OPM Form 256 (on which it was modeled) as the term “handicap” is no longer commonly used. The nine disability categories used are those EEOC uses for MD-715 data collection. However, the commenter is correct in that three of the nine categories are slightly modified from OPM Form 256. First, there is a discrepancy in question (5)(6) in the category of “Seizure/convulsive disorder.” The proposed form uses the term “seizure” in addition to “convulsive disorder.” The term “seizure” is not used in OPM Form 256 but does accurately describe the impairment EEOC is targeting. Second, in question (5)(7) the term “intellectual disorder” is used along with “mental retardation” because more recently “intellectual disability” is the favored term for persons with mental retardation. Finally, in question (5)(8), EEOC uses the term “Psychiatric Disorder or a history of treatment for mental or emotional illness.” OPM Form 256 states this category as “Mental or emotional illness (A history of treatment for mental or emotional problems).” While OPM Form 256 does not include the words “psychiatric disorder,” this term has come to be preferred and provides a fuller, more contemporary description. These three disability categories, which have been slightly modified, are not intended to be different from those EEOC previously has used. The minor changes are intended only to provide more clarity given the change in common usage since 1987—the year OPM Form 256 was drafted.

Due in part to the change in the definition of “Asian” over the past several years, EEOC believes it useful to include—in Question 4 of the proposed form—definitions for each race or national origin category. The proposed Demographic Information on Applicants form also will be revised to delete the “n” from the term “Alaskan Native” in question 4 to read “1. American Indian or Alaska Native.” Finally, the phrase “and you may self identify at any time” has been added to the section of the form that applies to self-identification of disability status.

Overview of This Information Collection

Type of Review: New collection.

Collection Title: Demographic Information on Applicants form.

Form No.: None.

Frequency of Report: Occasional.

Type of Respondent: Applicants for federal employment.

Description of Affected Public: Individuals submitting applications for federal employment.

Responses: 3,510,600.

Reporting Hours: 175,530 (3 minutes per response).

Costs to Respondents: None.

Federal Cost: None.

Abstract: EEOC enforces Title VII of the Civil Rights Act and the Rehabilitation Act, among other equal employment opportunity laws. Pursuant to its authority under those statutes, EEOC issued Equal Employment Opportunity Management Directive 715 (MD-715) in 2003. MD-715 provides policy guidance and standards for establishing and maintaining effective affirmative programs of equal employment opportunity under Section 717 of Title VII and effective affirmative action programs under Section 501 of the Rehabilitation Act. The overriding objective of MD-715 is to ensure that all employees and applicants for employment enjoy equality of opportunity in the federal workplace regardless of race, color, sex, age, national origin, religion, or disability. In order to ensure that agencies proactively prevent potential discrimination and establish systems to monitor compliance with Title VII and the Rehabilitation Act, MD-715 requires agencies to evaluate their employment practices by collecting and analyzing data on the race, national origin, sex, and disability status of applicants for both permanent and temporary employment. This notice concerns an optional form for use by federal agencies in gathering demographic information on applicants for federal employment. Use of the form is not required. Federal agencies may or may not elect to use the form. Applicants for federal employment may or may not elect to complete the form.

Burden Statement: The estimated number of respondents is approximately 3,510,600 applicants. The burden is estimated to be approximately three minutes per respondent. Because the form is voluntary, there is no way accurately to predict the number of applicants who will respond.

Dated: September 11, 2008.
For the Commission.
Naomi C. Earp,
Chair.

[FR Doc. E8-23069 Filed 9-30-08; 8:45 am]

BILLING CODE 6570-01-P